DEPARTMENT OF EDUCATION

34 CFR Part 106

RIN 1870-AA14

[Docket ID ED-2018-OCR-0064]

Nondiscrimination on the Basis of Sex in Education Programs or Activities Receiving Federal Financial Assistance

AGENCY: Office for Civil Rights, Department of Education.

ACTION: Notice of proposed rulemaking; extension of comment period.

SUMMARY: On November 29, 2018, the Department published in the Federal Register a notice of proposed rulemaking (NPRM) to amend the Nondiscrimination on the Basis of Sex in Education Programs or Activities Receiving Federal Financial Assistance regulations. That NPRM established a 60-day comment period from November 29, 2018, through January 28, 2019. The Department is extending the public comment period for two days, until January 30, 2019.

DATES: The comment period for the proposed rule published November 29, 2018, at 83 FR 61462, is extended. Comments must be submitted to the Department on or before January 30, 2019.

ADDRESSES: Submit your comments through the Federal eRulemaking Portal or via postal mail, commercial delivery, or hand delivery. The Department will not accept comments submitted by fax or by email or those submitted after the comment period. To ensure that the Department does not receive duplicate copies, please submit your comments only once. In addition, please include the Docket ID at the top of your comments.

• Federal eRulemaking Portal: Go to www.regulations.gov to submit your comments electronically. Information on using Regulations.gov, including instructions for finding a rule on the site and submitting comments, is available on the site under “How to use Regulations.gov” in the Help section.

• Postal Mail, Commercial Delivery, or Hand Delivery: The Department strongly encourages commenters to submit their comments electronically. If, however, you mail or deliver your comments about the proposed regulations, address them to Brittany Bull, U.S. Department of Education, 400 Maryland Avenue SW, Room 6E310, Washington, DC 20202-5900.

Privacy Note: The Department's policy is to make all comments received from members of the public available for public viewing in their entirety on the Federal eRulemaking Portal at www.regulations.gov. Therefore, commenters should be careful to include in their comments only information that they wish to make publicly available.

FOR FURTHER INFORMATION CONTACT: Brittany Bull, U.S. Department of Education, 400 Maryland Avenue SW, Room 6E310, Washington, DC 20202-5900. Telephone: 202-453-7100. You may also email your questions to TitleIXNPRM@ed.gov, but, as described above, comments must be submitted via the Federal eRulemaking Portal, postal mail, commercial delivery, or hand delivery.

If you use a telecommunications device for the deaf or a text telephone, call the Federal Relay Service, toll free, at 1-800-877-8339.

SUPPLEMENTARY INFORMATION:

Background: On November 29, 2018, the Department published an NPRM in the Federal Register (83 FR 61462), to amend the Nondiscrimination on the Basis of Sex in Education Programs or Activities Receiving Federal Financial Assistance regulations to provide appropriate standards for how recipients must respond to incidents of sexual harassment. The NPRM established a 60-day comment period through January 28, 2019. However, the Federal eRulemaking Portal was temporarily unavailable for a portion of January 16 and 17, 2019, due to technical issues. To ensure that the public will have had 60 days in total to submit comments on the Department's NPRM using the Federal eRulemaking Portal, the Department is extending the public comment period for an additional two days. The Department must now receive your comments submitted through the Federal eRulemaking Portal on or before 11:59 p.m. EST January 30, 2019, hand delivered on or before 5 p.m. EST January 30, 2019, or postmarked on or before January 30, 2019, if delivered by postal mail or commercial delivery.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available at www.govinfo.gov. At this site, you can view this document, as well as all other documents of this Department published in the Federal Register, in text or Adobe Portable Document Format (PDF). To use PDF, you must have Adobe Acrobat Reader, which is available free at this site.

You may also access documents of the Department published in the Federal Register by using the article search feature at: www.federalregister.gov. Through the advanced search feature at this site, you can limit your search to documents published by the Department.

Dated: January 23, 2019.
Betsy DeVos,
Secretary of Education.

[FR Doc. 2019-00256 Filed 1-24-19; 4:15 pm]

BILLING CODE 4000-01-P